AFRICAN DEVELOPMENT FOUNDATION MEETING

Board of Directors Meeting

Time: Wednesday, September 14, 2005—9 a.m.-4 p.m.

Place: The African Development Foundation, Conference Room, 1400 I Street, NW., Washington, DC 20005.

Date: September 14, 2005.

Status: Open Session.

Wednesday 14, 2005

9 a.m. to 12 noon

1 p.m. to 3 p.m.

Closed Executive Session

Wednesday 14, 2005

3 p.m. to 4 p.m.

Agenda

Wednesday, September 14, 2005

9 a.m. Chairman's Report

9:30 a.m. President's Report

12 noon Break

1 p.m. President's Report

3 p.m. Executive's Session

4 p.m. Adjournment for day

If you have any questions or comments, please direct them to Doris Martin, General Counsel, who may be reached at (202) 673-3916.

Nathaniel Fields,
President.

[FR Doc. 05-17886 Filed 9-2-05; 4:59 am]

BILLING CODE 6116-01-M